DEPARTMENT OF ENERGY

Federal Energy Regulatory Commission

[Docket No. RP03-436-001]

Northwest Pipeline Corporation; Notice of Compliance Filing

July 1, 2003.

Take notice that on June 26, 2003, Northwest Pipeline Corporation (Northwest) tendered for filing as part of its FERC Gas Tariff, Third Revised Volume No. 1, the following tariff sheets, to be effective July 1, 2003:

Substitute Fifth Revised Sheet No. 202-A

Substitute Third Revised Sheet No. 232-E

Substitute Second Revised Sheet No. 237-D

Substitute Third Revised Sheet No. 258-C

Substitute First Revised Sheet No. 265-D

Substitute Sixth Revised Sheet No. 268

Northwest states that the purpose of this filing is to comply with the Commission's letter order dated June 20, 2003 in this docket by filing minor revisions to tariff sheets filed on May 1, 2003 in compliance with Order No. 587-R. Northwest states that the revisions generally add references to Version 1.6 and Recommendations R02002 and R02002-2 to certain tariff provisions.

Northwest states that a copy of this filing has been served upon each person designated on the official service list complied by the Secretary in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 8, 2003.

Magalie R. Salas,
Secretary.

[FR Doc. 03-17295 Filed 7-8-03; 8:45 am]

BILLING CODE 6717-01-P